DEPARTMENT OF TRANSPORTATION

Pipeline and Hazardous Materials Safety Administration

[Docket No. PHMSA-2011-0157; Notice No. 11-6]

Clarification on the Division 1.1 Fireworks Approvals Policy

AGENCY: Pipeline and Hazardous Materials Safety Administration (PHMSA), DOT.

ACTION: Clarification.

SUMMARY: In this document, PHMSA is seeking comment on its intent to clarify its fireworks approvals policy whereby the Office of Hazardous Materials Safety (OHMS), Approvals and Permits Division will accept only those classification approval applications for Division 1.1 fireworks that have been examined and assigned a recommended shipping description, division and compatibility group by a DOT-approved explosives test laboratory, or that have been issued an approval for the explosive by the competent authority of a foreign government acknowledged by PHMSA's Associate Administrator. If the Associate Administrator finds the approval request meets the regulatory criteria, the new explosive will be approved in writing and assigned an EX number.

DATES: Comments Due Date: October 27, 2011.

ADDRESSES: You may submit comments by identification of the docket number (PHMSA-2011-0157 (Notice No. 11-6)) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal holidays.

Instructions: All submissions must include the agency name and docket number for this notice at the beginning of the comment. All comments received will be posted without change to the Federal Docket Management System (FDMS), including any personal information.

Docket: For access to the dockets to read background documents or comments received, go to http://www.regulations.gov or DOT's Docket Operations Office (see ADDRESSES).

FOR FURTHER INFORMATION CONTACT: Mr. Ryan Paquet, Director, Approvals and Permits Division, Office of Hazardous Materials Safety, (202) 366-4512, PHMSA, 1200 New Jersey Avenue, SE., Washington, DC 20590.

Background

The Hazardous Materials Regulations (HMR; 49 CFR Parts 171-180) require that Division 1.1 fireworks must be examined by a DOT-approved explosives test laboratory and assigned a recommended shipping description, division, and compatibility group in accordance with § 173.56(b). The tests provided for the classification of Division 1.1 fireworks specified in §§ 173.57 and 173.58 describe the procedures used to determine the acceptance criteria and assignment of class and division for all new explosives.

The HMR also permit Division 1.1 firework devices that have been approved by the competent authority of a foreign government that PHMSA's Associate Administrator has acknowledged in writing as acceptable in accordance with 49 CFR § 173.56(g).

According to § 173.56(j), manufacturers of Division 1.3 and 1.4 fireworks or their designated U.S. agents may apply for an EX classification approval without prior examination by a DOT-approved explosives test laboratory if the firework device is manufactured in accordance with APA Standard 87-1 (IBR, see § 171.7), and the device passes the thermal stability test. Additionally, the applicant must certify that the firework device conforms to the APA Standard 87-1 and that the descriptions and technical information contained in the application are complete and accurate. PHMSA has in the past, on a case-by-case basis, approved some Division 1.1G fireworks without requiring testing by a DOT-approved explosives examination laboratory. However, we evaluate each EX approval application independently and have also required Division 1.1G fireworks to undergo examination testing by a DOT-approved explosive examination lab prior to issuing the EX approval.

While APA Standard 87-1 references two instances where Division 1.1 fireworks may be approved under the standard, it does not call for the level of testing required in the HMR, nor does it provide testing and criteria to determine when a firework ceases to be a Division 1.1 and becomes forbidden for transport.

We are clarifying our policy that all Division 1.1 fireworks must undergo examination by a DOT-approved explosives examination laboratory. However, if a fireworks device is classed and approved as a Division 1.1 firework, the UN Test Method 6 is not required. Rather, the testing will be limited to UN Test Method 4a(i) and 4b(ii), as is already specified in § 173.57(b). The examination laboratory may request additional information if necessary to make their classification recommendation. Additionally, we allow the laboratory to make a classification recommendation for Division 1.1 fireworks based on analogy.

PHMSA believes that by adhering to the requirements of the HMR and issuing Division 1.1 fireworks approvals only after a DOT-approved explosive laboratory has examined and recommended a classification, or an approval has been issued by a competent authority of a foreign government acknowledged by PHMSA's Associate Administrator, we are ensuring that fireworks transported in commerce meet the established criteria for their assigned classification, thereby minimizing the potential of the shipment of incorrectly classified or forbidden fireworks.

For these safety reasons, PHMSA is seeking comment on its clarification of its fireworks approvals policy whereby PHMSA will accept and issue only those classification approval applications for Division 1.1 fireworks that have been examined and assigned a recommended shipping description, division, and compatibility group by a DOT-approved explosives test laboratory in accordance with 49 CFR 173.56(b), or has been approved by the competent authority of a foreign government that PHMSA's Associate Administrator has acknowledged in writing as acceptable in accordance with 49 CFR 173.56(g).

Issued in Washington, DC on September 21, 2011.
Magdy El-Sibaie,
Associate Administrator for Hazardous Materials Safety, Pipeline and Hazardous Materials Safety Administration.

[FR Doc. 2011-24686 Filed 9-26-11; 8:45 am]

BILLING CODE 4910-60-P